NATIONAL TRANSPORTATION SAFETY BOARD

49 CFR Part 830

Notification and Reporting of Aircraft Accidents or Incidents and Overdue Aircraft, and Preservation of Aircraft Wreckage, Mail, Cargo, and Records

AGENCY: National Transportation Safety Board (NTSB).

ACTION: Correcting amendments.

SUMMARY: The NTSB is correcting a regulatory subsection that became effective on March 8, 2010. The NTSB determined that a final rule which requires reports of certain runway incursions, failed to specify that on paragraph applies only to fixed-wing aircraft operating at public-use airports on land. These amendments function to considerably narrow the reporting requirement to include only the specific set of incidents for which the NTSB seeks reports. In addition, the NTSB is correcting a footnote because the NTSB no longer has a regional office in Parsippany, New Jersey.

DATES: The correction is effective June 22, 2010.

ADDRESSES: Copies of the notice of proposed rulemaking (NPRM) and the final rule, published in the Federal Register (FR), are available for inspection and copying in the NTSB's public reading room, located at 490 L'Enfant Plaza, SW., Washington, DC 20594-2000. Alternatively, copies of the documents and comments that the NTSB received from the public are available on the government-wide Web site on regulations at http://www.regulations.gov.

FOR FURTHER INFORMATION CONTACT: Deepak Joshi, Aerospace Engineer (Structures), Office of Aviation Safety, (202) 314-6348.

SUPPLEMENTARY INFORMATION:

Regulatory History

On October 7, 2008, the NTSB published an NPRM titled “Notification and Reporting of Aircraft Accidents or Incidents and Overdue Aircraft, and Preservation of Aircraft Wreckage, Mail, Cargo, and Records” in 73 FR 58520, and, on January 7, 2010, the NTSB published a final rule under the same title in 75 FR 922. The final rule codified the addition of five reportable incidents, including the following requirement concerning the reporting of runway incursions: “Any event in which an aircraft operated by an air carrier: (i) Lands or departs on a taxiway, incorrect runway, or other area not designed as a runway; or (ii) Experiences a runway incursion that requires the operator or the crew of another aircraft or vehicle to take immediate corrective action to avoid a collision.”

After the publication of this final rule, several organizations advised the NTSB that the regulatory language may inadvertently require that aircraft taking off or landing at sites outside an airport submit a report each time they take off or land. Representatives of these organizations were concerned that they would be required to report every takeoff or landing of a helicopter that occurs on a “taxiway” or “other area not designed as a runway.” While the new rule literally states this, the preamble of the NPRM stated that it is not the NTSB's intent to be notified of normal taxiway and off-airport rotorcraft takeoffs and landings (see 73 FR 58520).

The NTSB does not seek to require reports of off-airport or taxiway takeoffs and landings that occur during normal helicopter operations, including helicopter operations at heliports, helidecks, hospital rooftops, highway berms, or any other area normally utilized to transport patients, passengers, or crews. The NTSB also does not seek to require reports of other off-airport or taxiway takeoffs and landings that occur during normal operations, such as those involving seaplanes, hot-air balloons, unmanned aircraft systems, and aircraft designed specifically for takeoffs and landings that do not occur at land airports. The NTSB's correction to its inadvertent error in drafting overly broad regulatory language in 49 CFR 830.5(a)(12) contains the requirement that the NTSB receive reports of the following: “Any event in which an operator, when operating an airplane as an air carrier at a public-use airport on land: (i) Lands or departs on a taxiway, incorrect runway, or other area not designed as a runway; or (ii) Experiences a runway incursion that requires the operator or the crew of another aircraft or vehicle to take immediate corrective action to avoid a collision.”

In interpreting this subsection, the NTSB plans to use the definition of “airplane” found in 14 CFR 1.1, which indicates that “[a]irplane means an engine-driven fixed-wing aircraft heavier than air, that is supported in flight by the dynamic reaction of the air against its wings.” Regarding the definition of “public-use airport,” the NTSB plans to use the definition in 49 U.S.C. 47102(21), which indicates that “ `public-use airport' means— (A) a public airport; or (B) a privately-owned airport used or intended to be used for public purposes that is—(i) a reliever airport; or (ii) determined by the Secretary to have at least 2,500 passenger boardings each year and to receive scheduled passenger aircraft service.” The NTSB believes the qualification of “on land” of “public-use airport” is self-explanatory; the NTSB does not seek reports of operations on water.

This new language functions to narrow the reporting requirement. Given that it does not impose any new requirements but instead narrows the current requirement to include only reports of incidents in which airplanes at public-use airports on land are involved in runway incursions, the NTSB has concluded that it is legally permissible to publish this correction to the rule rather than engage in a new rulemaking procedure under the Administrative Procedure Act. The corrected language is clearly a logical outgrowth of the language that became effective on March 8, 2010, and applies to fewer scenarios than the original language.

List of Subjects in 49 CFR Part 830

Aircraft accidents, Aircraft incidents, Aviation safety, Overdue aircraft notification and reporting, Reporting and recordkeeping requirements.

For the reasons discussed in the preamble, the NTSB amends 49 CFR part 830 as follows:

PART 830—NOTIFICATION AND REPORTING OF AIRCRAFT ACCIDENTS OR INCIDENTS AND OVERDUE AIRCRAFT, AND PRESERVATION OF AIRCRAFT WRECKAGE, MAIL, CARGO, AND RECORDS

1. The authority citation for part 830 continues to read as follows:

Authority: Independent Safety Board Act of 1974, as amended (49 U.S.C. 1101-1155); Federal Aviation Act of 1958, Public Law 85-726, 72 Stat. 731 (codified as amended at 49 U.S.C. 40101).

2. Amend § 830.15 as follows:

A. Republish the introductory text.

B. Revise footnote 1 and paragraph (a)(12).

The revisions read as follows:

§ 830.5 Immediate notification.

The operator of any civil aircraft, or any public aircraft not operated by the Armed Forces or an intelligence agency of the United States, or any foreign aircraft shall immediately, and by the most expeditious means available, notify the nearest National Transportation Safety Board (NTSB) office ¹ when:

¹ NTSB regional offices are located in the following cities: Anchorage, Alaska; Atlanta, Georgia; West Chicago, Illinois; Denver, Colorado; Arlington, Texas; Gardena (Los Angeles), California; Miami, Florida; Seattle, Washington; and Ashburn, Virginia. In addition, NTSB headquarters is located at 490 L'Enfant Plaza, SW., Washington, DC 20594. Contact information for these offices is available at http://www.ntsb.gov.

(a) * * *

(12) Any event in which an operator, when operating an airplane as an air carrier at a public-use airport on land:

(i) Lands or departs on a taxiway, incorrect runway, or other area not designed as a runway; or

(ii) Experiences a runway incursion that requires the operator or the crew of another aircraft or vehicle to take immediate corrective action to avoid a collision.

* * * * *

Deborah A.P. Hersman,
Chairman.

[FR Doc. 2010-14925 Filed 6-21-10; 8:45 am]

BILLING CODE 7533-01-P